ENVIRONMENTAL PROTECTION AGENCY

40 CFR Parts 52 and 81

[EPA-R09-OAR-2013-0007; FRL-9826-4]

Approval and Promulgation of Implementation Plans; Designation of Areas for Air Quality Planning Purposes; California; South Coast Air Basin; Approval of PM10 Maintenance Plan and Redesignation to Attainment for the PM10 Standard

AGENCY: Environmental Protection Agency (EPA).

ACTION: Final rule.

SUMMARY: EPA is approving, as a revision to the California State implementation plan (SIP), the State's request to redesignate the Los Angeles-South Coast Air Basin (South Coast) to attainment for the 24-hour particulate matter of ten microns or less (PM10) national ambient air quality standard (NAAQS). EPA is also approving the PM10 maintenance plan and the associated PM10 motor vehicle emissions budgets for use in transportation conformity determinations necessary for the South Coast PM10 area. Finally, EPA is approving the attainment year emissions inventory. EPA is taking these actions because the SIP revision meets the requirements of the Clean Air Act (CAA) and EPA guidance for such plans and motor vehicle emissions budgets.

DATES: Effective Date: This rule is effective on July 26, 2013.

ADDRESSES: You may inspect the supporting information for this action, identified by docket number EPA-R09-OAR-2013-0007, by one of the following methods:

1. Federal eRulemaking portal, http://www.regulations.gov, please follow the online instructions; or,

2. Visit our regional office at, U.S. Environmental Protection Agency Region IX, 75 Hawthorne Street, San Francisco, CA 94105-3901.

Docket: The index to the docket for this action is available electronically at http://www.regulations.gov and in hard copy at EPA Region IX, 75 Hawthorne Street, San Francisco, California. While documents in the docket are listed in the index, some information may be publicly available only at the hard copy location (e.g., voluminous records, large maps, copyrighted material), and some may not be publicly available in either location (e.g., Confidential Business Information). To inspect the hard copy materials, please schedule an appointment during normal business hours with the contact listed directly below.

FOR FURTHER INFORMATION CONTACT: Wienke Tax, EPA Region IX, (415) 947-4192, tax.wienke@epa.gov.

SUPPLEMENTARY INFORMATION: Throughout this document, “we,” “us” and “our” refer to EPA.

Table of Contents

I. Summary of Proposed Action

II. Public Comment and EPA Response

III. EPA's Final Action

IV. Statutory and Executive Order Reviews

I. Summary of Proposed Action

On April 8, 2013 (78 FR 20868), based on EPA's review of the Final PM10 Redesignation Request and Maintenance Plan for the South Coast Air Basin (December 2009) (“2009 South Coast PM10 Redesignation Request and Maintenance Plan”) submitted by California, air quality monitoring data, and other relevant materials, EPA proposed to approve the State of California's request to redesignate the South Coast PM10 nonattainment area to attainment of the PM10 NAAQS, pursuant to CAA sections 107(d)(3)(E) and 175A. The background for today's actions is discussed in detail in EPA's April 8, 2013 proposed rulemaking and technical support document (TSD).

We based our conclusion that the area had attained the standard on our determination that the three years of complete, quality-assured data for the period 2008-2010 showed that the South Coast PM10 nonattainment area had attained the PM10 NAAQS.

We also determined based on more recent data that the area continues to attain the NAAQS based on certified, quality-assured 2012 data. Data for 2013 have not been submitted to EPA's Air Quality System (AQS) and are not required to be submitted until June 30, 2013.

Our proposed approval of the redesignation request was based on EPA's finding that the area meets all other CAA redesignation requirements under section 107(d)(3)(E) and the CAA maintenance plan requirements under section 175A.

EPA proposed to approve the State's maintenance plan, which includes SIP-approved control measures for fugitive dust, open burning and wood burning devices, cement manufacturing, aggregate and related operations, and paved and unpaved roads, among others. Implementation of these control measures has resulted in attainment of the PM10 NAAQS in the South Coast nonattainment area and the continued implementation of these control measures is expected to provide for maintenance of the PM10 NAAQS into the future. We also proposed to approve the motor vehicle emissions budgets associated with the plan because the plan demonstrated that these emissions levels, when considered with emissions from all other sources, were consistent with maintenance of the NAAQS.

Finally, EPA proposed to approve the attainment year emissions inventory submitted with the maintenance plan as meeting the requirements of CAA section 172(c)(3).

II. Public Comments and EPA Responses

EPA provided for a 30-day public comment period on our proposed action. The comment period ended on May 8, 2013. We received one comment letter from the South Coast Air Quality Management District (SCAQMD or District) on May 8, 2013.¹ We respond to that comment here.

¹ See letter, Elaine Chang, DrPH, Deputy Executive Officer, South Coast Air Quality Management District, to Wienke Tax, US Environmental Protection Agency, Region IX, dated May 8, 2013, in the docket for today's action.

Comment: SCAQMD strongly supports EPA's proposed action. The District also commented that it submitted, through CARB, exceptional events packages requesting exclusion of monitoring data from multiple sites in the SCAQMD network from October 21, 2007 and July 5, 2007 under EPA's Exceptional Events Rule (72 FR 28612, May 22, 2007). The exceptional events requests were submitted to EPA by CARB on October 23, 2009 and December 22, 2009, respectively. The letter also requested EPA to acknowledge the requests if EPA did not evaluate these requests before taking final action on this proposal.

Response: EPA received two exceptional events requests from CARB for South Coast monitoring data from 2007 on October 23, 2009 and December 22, 2009. EPA is not taking any action on the exceptional events requests cited in the District's comment letter. It is not necessary for EPA to process those requests because this final action is based on monitored data occurring after the time of those requests. Therefore, whether we granted or denied the exceptional events requests concerning data from 2007, it would not have any bearing on our action today.

III. EPA's Final Action

Based on our review of the 2009 South Coast PM10 Redesignation Request and Maintenance Plan submitted by the State, air quality monitoring data, and other relevant materials, EPA finds that the State has addressed all the necessary requirements for redesignation of the South Coast air basin to attainment of the PM10 NAAQS, pursuant to CAA sections 107(d)(3)(E) and 175A.

First, under CAA section 107(d)(3)(D), we are approving CARB's request, which accompanied the submittal of the maintenance plan, to redesignate the South Coast PM10 nonattainment area to attainment for the 24-hour PM10 NAAQS. We are doing so based on our conclusion that the area has met the five criteria for redesignation under CAA section 107(d)(3)(E). Our conclusion is based on our determination that the area has attained the 24-hour PM10 NAAQS; that relevant portions of the California SIP are fully approved; that the improvement in air quality is due to permanent and enforceable reductions in emissions; that California has met all requirements applicable to the South Coast PM10 nonattainment area with respect to section 110 and part D of the CAA; and that we are approving the South Coast PM10 maintenance plan as part of today's action.

Second, in connection with the 2009 South Coast PM10 Redesignation Request and Maintenance Plan, EPA is finding that the maintenance demonstration showing how the area will continue to attain the 24-hour PM10 NAAQS for at least 10 years beyond redesignation (i.e., through 2030) and the associated motor vehicle emissions budgets meet applicable CAA requirements for maintenance plans and transportation conformity requirements under 40 CFR 93.118(e). We are also approving the 2010 emissions inventory as meeting the applicable requirements for emissions inventories in CAA sections 175A and 172.

With today's action, we are finalizing our approval of the motor vehicle emissions budgets. After the effective date of today's final rule, the approved budgets must be used in any future regional emissions analysis for PM10 conducted by the local metropolitan planning organization, the Southern California Association of Governments, and the Federal Highway Administration.

IV. Statutory and Executive Order Reviews

Under the CAA, redesignation of an area to attainment and the accompanying approval of a maintenance plan under section 107(d)(3)(E) are actions that affect the status of a geographical area and do not impose any additional regulatory requirements on sources beyond those imposed by State law. A redesignation to attainment does not in and of itself create any new requirements, but rather results in the applicability of requirements contained in the CAA for areas that have been redesignated to attainment. Moreover, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For these reasons, these actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act(5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of Section 12(d) of the National Technology Transfer and Advancement Act of 1995 (15 U.S.C. 272 note) because application of those requirements would be inconsistent with the Clean Air Act; and

• Do not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the final action does not apply in Indian country located in the State, and EPA notes that it will not impose substantial direct costs on tribal governments or preempt tribal law. Nonetheless, in accordance with EPA's 2011 Policy on Consultation and Coordination with Tribes, EPA has notified Tribes located within the South Coast PM10 nonattainment area of this action.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 26, 2013. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Particulate matter, Reporting and recordkeeping requirements.

40 CFR Part 81

Environmental protection, Air pollution control, National parks, Wilderness areas.

Dated: June 12, 2013.
Jared Blumenfeld,
Regional Administrator, Region 9.

Part 52, Chapter I, title 40 of the Code of Federal Regulations is amended as follows:

PART 52—[AMENDED]

1. The authority citation for part 52 continues to read as follows:

Authority: 42 U.S.C. 7401 et seq.

Subpart F—California

2. Section 52.220 is amended by adding paragraph (c)(426) to read as follows:

§ 52.220 Identification of plan.

* * * * *

(c) * * *

(426) The following plan was submitted on April 28, 2010, by the Governor's Designee.

(i) [Reserved]

(ii) Additional materials.

(A) South Coast Air Quality Management District.

(1) Final PM10 Redesignation Request and Maintenance Plan for the South Coast Air Basin (December 2009) (2009 South Coast PM10 Redesignation Request and Maintenance Plan), adopted January 8, 2010.

(2) SCAQMD Board Resolution 10-1, dated January 8, 2010, adopting the 2009 South Coast PM10 Redesignation Request and Maintenance Plan.

(B) State of California Air Resources Board.

(1) CARB Resolution 10-21, dated March 25, 2010, adopting the 2009 South Coast PM10 Redesignation Request and Maintenance Plan.

PART 81—[AMENDED]

3. The authority citation for part 81 continues to read as follows:

Authority: 42 U.S.C. 7401 et seq.

Subpart C—[Amended]

4. Section 81.305 is amended in the table for “California-PM-10” by revising the entry under Riverside, Los Angeles, Orange, and San Bernardino Counties for the “South Coast Air Basin” to read as follows:

§ 81.305 California.

* * * * *

California—PM-10
Designated area | Designation: Date | Designation: Type | Classification: Date | Classification: Type
* * * * * * *
Riverside, Los Angeles, Orange, and San Bernardino Counties |  |  |  |
South Coast Air Basin | 7/26/13 | Attainment |  |
* * * * * * *

* * * * *

[FR Doc. 2013-15145 Filed 6-25-13; 8:45 am]

BILLING CODE 6560-50-P